DEPARTMENT OF ENERGY

Federal Energy Regulatory Commission

Notice of Application Tendered for Filing With the Commission, and Establishing Procedural Schedule and a Deadline for Submission of Final Amendments

January 6, 2005.

Take notice that the following hydroelectric application has been filed with the Commission and is available for public inspection.

a. Type of Application: New major license or exemption from licensing.

b. Project No.: 2204-024.

c. Date Filed: December 30, 2004.

d. Applicant: City and County of Denver, Colorado, acting by and through its Board of Water Commissioners.

e. Name of Project: Williams Fork Reservoir Project.

f. Location: On the Williams Fork River near its confluence with the Colorado River at Parshall, in Grand County, Colorado. No federal lands would be affected.

g. Filed Pursuant to: Federal Power Act 16 U.S.C. 791(a)-825(r).

h. Applicant Contact: Kevin Urie, Licensing Project Coordinator, Denver Water, 1600 W. 12th Ave., Denver, CO 80204, (303) 628-5987.

i. FERC Contact: Dianne Rodman, (202) 502-6077 or dianne.rodman@ferc.gov.

j. Cooperating agencies: We are asking Federal, state, local, and tribal agencies with jurisdiction and/or special expertise with respect to environmental issues to cooperate with us in the preparation of the environmental document. Agencies who would like to request cooperating status should follow the instructions for filing comments described in item k below.

k. Deadline for requests for cooperating agency status: February 28, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Requests for cooperating agency status may be filed electronically via the Internet in lieu of paper. The Commission strongly encourages electronic filings. See 18 CFR 385.2001(a)(1)(iii) and the instructions on the Commission's Web site (http://www.ferc.gov) under the “e-Filing” link.

l. This application is not ready for environmental analysis at this time.

m. The existing project consists of: (1) The 209-foot-high, 670-foot-long concrete thin arch dam with a crest elevation of 7,814 feet above mean sea level (msl); (2) the Williams Fork reservoir with a surface area of 1,628 acres and storage of 96,822 acre-feet at elevation 7,811 feet msl; (3) a reinforced concrete penstock intake on the face of the dam, with a 7-foot by 5-foot fixed wheel penstock gate controlling flows into a 66-inch-diameter steel penstock running through the dam; (4) river outlet works on the face of the dam, leading to a 54-inch-diameter steel embedded pipe that conveys water to the outlet works valves; (5) a 66-foot-long, 30-foot-wide, 60-foot-high concrete powerhouse at the toe of the dam, containing one vertical-axis turbine/generator with a capacity of 3,150 kilowatts (kW); (6) a tailrace excavated in the streambed rock, carrying the combined powerhouse and river outlet discharges; (7) a 60-foot by 40-foot switchyard; (8) and appurtenant equipment.

The applicant requests the Commission to first review the application for a small hydroelectric power project exemption from licensing, in which the applicant would increase the project's generating capacity to 3,650 kW by installing a second turbine/generator. If the project with the proposed capacity increase does not qualify for an exemption, the applicant requests that this application be considered an application for a new license, under which the applicant would continue to operate the existing turbine/generator with a 3,150-kW capacity and would not install a second unit.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

o. With this notice, we are initiating consultation with the Colorado State Historic Preservation Officer (SHPO), as required by (106, National Historic Preservation Act, and the regulations of the Advisory Council on Historic Preservation, 36 CFR 800.4.

p. Procedural schedule and final amendments: The application will be processed according to the following Hydro Licensing Schedule. Revisions to the schedule will be made as appropriate.

Issue acceptance or deficiency letter: February 2005.

Request additional information: February 2005.

Issue acceptance letter: May 2005.

Notice soliciting terms and conditions: May 2005.

Notice of the availability of the EA: September 2005.

Ready for Commission's decision on the application: April 2006.

Final amendments to the application must be filed with the Commission no later than 30 days from the issuance date of the notice soliciting terms and conditions.

Magalie R. Salas,
Secretary.

[FR Doc. E5-99 Filed 1-11-05; 8:45 am]

BILLING CODE 6717-01-P